SECURITIES AND EXCHANGE COMMISSION

Issuer Delisting; Notice of Application To Withdraw From Listing and Registration on the Boston Stock Exchange, Inc. (DrugMax, Inc., Common Shares, $.001 Par Value) File No. 1-15445

October 17, 2001.

DrugMax, Inc., a Nevada corporation (“Issuer”), has filed an application with the Securities and Exchange Commission (“Commission”), pursuant to Section 12(d) of the Securities Exchange Act of 1934 ¹ (“Act”) and Rule 12d2-2(d) thereunder,² to withdraw its Common Shares, $.001 par value (“Security”) from listing and registration on the Boston Stock Exchange, Inc. (“BSE”).

¹ 15 U.S.C. 78l(d).

² 17 CFR 240.12d2-2(d).

The Issuer stated in its application that the Security has been listed on the Nasdaq SmallCap Market since November 19, 1999. In making the decision to withdraw the Security from listing and registration on the BSE, the Issuer considered the liquidity provided by the BSE and the cost associated with maintaining such listing. The Issuer represented that it will maintain its listing on the Nasdaq SmallCap Market so that the shareholders are provided with accessible and liquid markets. The Issuer's application relates solely to the Security's withdrawal from listing on the BSE and from registration under Section 12(b) of the Act ³ and shall not affect its obligation to be registered under Section 12(g) of the Act.⁴

³ 15 U.S.C. 78l(b).

⁴ 15 U.S.C. 78l(g).

Any interested person may, on or before November 8, 2001 submit by letter to the Secretary of the Securities and Exchange Commission, 450 Fifth Street, NW., Washington, DC 20549-0609, facts bearing upon whether the application has been made in accordance with the rules of the BSE and what terms, if any, should be imposed by the Commission for the protection of investors. The Commission, based on the information submitted to it, will issue an order granting the application after the date mentioned above, unless the Commission determines to order a hearing on the matter.

⁵ 17 CFR 200.30-3(a)(1).

For the Commission, by the Division of Market Regulation, pursuant to delegated authority.³
Jonathan G. Katz,
Secretary.

[FR Doc. 01-26660 Filed 10-22-01; 8:45 am]

BILLING CODE 8010-01-M